FEDERAL MARITIME COMMISSION

Notice of Agreements Filed

The Commission hereby gives notice of the filing of the following agreements under the Shipping Act of 1984. Interested parties may submit comments on an agreement to the Secretary, Federal Maritime Commission, Washington, DC 20573, within 10 days of the date this notice appears in the Federal Register. Copies of agreements are available through the Commission's Office of Agreements (202-523-5793 or tradeanalysis@fmc.gov).

Agreement No.: 010051-037.

Title: Mediterranean Space Charter Agreement.

Parties: CP Ships USA LLC; A.P. Moller-Maersk A/S; Mediterranean Shipping Company, S.A.; P&O Nedlloyd Limited; P&O Nedlloyd B.V.; Hapag-Lloyd AG; and Zim Integrated Shipping Services, Ltd.

Filing Party: Wayne R. Rohde, Esq.; Sher & Blackwell LLP; 1850 M Street, NW.; Suite 900; Washington, DC 20036.

Synopsis: The amendment deletes Farrell Lines, Inc. as a party to the agreement and updates Hapag-Lloyd's corporate name.

Agreement No.: 011117-041.

Title: United States/Australasia Discussion Agreement.

Parties: A.P. Moller-Maersk A/S and Safmarine Container Lines NV; ANL Singapore Pte Ltd.; Australia-New Zealand Direct Line; CMA-CGM, S.A.; Compagnie Maritime Marfret S.A.; CP Ships USA, LLC; Hamburg-Süd; Hapag-Lloyd AG; and Wallenius Wilhelmsen Logistics AS.

Filing Party: Wayne R. Rohde, Esq.; Sher & Blackwell LLP; 1850 M Street, NW; Suite 900; Washington, DC 20036.

Synopsis: The amendment reflects Hapag-Lloyd's new corporate name.

Agreement No.: 011223-034.

Title: Transpacific Stabilization Agreement.

Parties: APL Co. Pte. Ltd./American President Lines, Ltd.; COSCO Container Lines Company Ltd.; Evergreen Marine Corporation (Taiwan) Ltd.; Hanjin Shipping Co., Ltd.; Hapag-Lloyd AG; Hyundai Merchant Marine Co., Ltd.; Kawasaki Kisen Kaisha, Ltd.; Mitsui O.S.K. Lines, Ltd.; Nippon Yusen Kaisha; Orient Overseas Container Line Limited; and Yangming Marine Transport Corp.

Filing Party: David F. Smith, Esq.; Sher & Blackwell LLP; 1850 M Street NW.; Suite 900; Washington, DC 20036.

Synopsis: The amendment reflects Hapag-Lloyd's new corporate name.

Agreement No.: 011275-021.

Title: Australia/United States Discussion Agreement.

Parties: A.P. Moller-Maersk A/S; Hamburg-Süd; Safmarine Container Lines NV; and Hapag-Lloyd AG.

Filing Party: Wayne R. Rohde, Esq.; Sher & Blackwell LLP; 1850 M Street, NW.; Suite 900; Washington, DC 20036.

Synopsis: The amendment deletes Australia-New Zealand Direct Line, a division of CP ships (UK) Limited and CP Ships USA, LLC as parties to the agreement and adds Hapag-Lloyd AG.

Agreement No.: 011324-018.

Title: Transpacific Space Utilization Agreement.

Parties: American President Lines Ltd.; APL Co. Pte Ltd.; Evergreen Marine Corporation (Taiwan), Ltd.; Hanjin Shipping Co., Ltd.; Hapag-Lloyd AG; Hyundai Merchant Marine Co., Ltd.; Kawasaki Kisen Kaisha Ltd.; Mitsui O.S.K. Lines, Ltd.; Nippon Yusen Kaisha; Orient Overseas Container Line Limited; Westwood Shipping Lines; and Yangming Marine Transport Corp.

Filing Party: David F. Smith, Esq.; Sher & Blackwell; 1850 M Street, NW.; Suite 900; Washington, DC 20036.

Synopsis: The amendment reflects Hapag-Lloyd's new corporate name.

Agreement No.: 011325-035.

Title: Westbound Transpacific Stabilization Agreement.

Parties: American President Lines, Ltd./APL Co. Pte Ltd.; China Shipping Container Lines Co., Ltd.; COSCO Container Lines Company Limited; Evergreen Marine Corporation (Taiwan), Ltd.; Hanjin Shipping Co., Ltd.; Hapag-Lloyd AG; Hyundai Merchant Marine Co. Ltd.; Kawasaki Kisen Kaisha, Ltd.; Nippon Yusen Kaisha Line; Orient Overseas Container Line Limited; and Yangming Marine Transport Corp.

Filing Party: David F. Smith, Esq.; Sher & Blackwell, LLP; 1850 M Street, NW.; Suite 900; Washington, DC 20036.

Synopsis: The amendment reflects Hapag-Lloyd's new corporate name.

Agreement No.: 011407-011.

Title: Australia/United States ContainerLine Association.

Parties: Hamburg-Süd and Hapag-Lloyd AG.

Filing Party: Wayne R. Rohde, Esq.; Sher & Blackwell, LLP; 1850 M Street, NW.; Suite 900; Washington, DC 20036.

Synopsis: The amendment deletes Australia-New Zealand Direct Line, a division of CP ships (UK) Limited and CP Ships USA, LLC as parties to the agreement and adds Hapag-Lloyd AG.

Agreement No.: 011409-013.

Title: Transpacific Carrier Services, Inc. Agreement.

Parties: American President Lines, Ltd.; APL Co. Pte Ltd.; Evergreen Marine Corporation; Hanjin Shipping Co., Ltd.; Hapag-Lloyd AG; Hyundai Merchant Marine Co., Ltd.; Kawasaki Kisen Kaisha, Ltd.; Mitsui O.S.K. Lines, Ltd.; Nippon Yusen Kaisha, Ltd.; Orient Overseas Container Line Limited; Yang Ming Marine Transport Corp.; COSCO Container Lines Co., Ltd.; CMA CGM, S.A.; and China Shipping Container Lines Co., Ltd.

Filing Party: David F. Smith, Esq.; Sher & Blackwell; 1850 M Street, NW.; Suite 900; Washington, DC 20036.

Synopsis: The amendment reflects Hapag-Lloyd's new corporate name.

Agreement No.: 011426-038.

Title: West Coast of South America Discussion Agreement.

Parties: APL Co. Pte Ltd.; CMA CGM, S.A.; Compania Chilena de Navigacion Interoceanica, S.A.; Compania Sud Americana de Vapores, S.A.; Frontier Liner Services, Inc.; Hamburg-Süd; Hapag-Lloyd AG; King Ocean Services Limited, Inc.; Mediterranean Shipping Company, S.A.; Seaboard Marine Ltd.; South Pacific Shipping Company, Ltd.; and Trinity Shipping Line.

Filing Party: Wayne R. Rohde, Esq.; Sher & Blackwell LLP; 1850 M Street, NW.; Suite 900; Washington, DC 20036.

Synopsis: The amendment removes CP Ships USA LLC as a party to the agreement, reflects CMA's resignation from the agreement effective August 17, 2006, and adds Hapag-Lloyd as a party.

Agreement No.: 011574-016.

Title: Pacific Islands Discussion Agreement.

Parties: Hamburg-Süd; Hapag-Lloyd AG; Polynesia Line Ltd.; Australia-New Zealand Direct Line, a division of CP Ships (UK) Ltd.; CMA CGM SA; and Compagnie Maritime Marfret, SA.

Filing Party: Wayne R. Rohde, Esq.; Sher & Blackwell, LLP; 1850 M Street, NW.; Suite 900; Washington, DC 20036.

Synopsis: The amendment reflects Hapag-Lloyd's new corporate name.

Agreement No.: 011834-004.

Title: Maersk Sealand/Hapag-Lloyd Mediterranean U.S. East Coast Slot Charter Agreement.

Parties: A.P. Moller Maersk A/S and Hapag-Lloyd AG.

Filing Party: Wayne R. Rohde, Esq.; Sher & Blackwell LLP; 1850 M Street NW.; Suite 900; Washington, DC 20036.

Synopsis: The amendment updates Hapag-Lloyd's corporate name and removes extraneous material from the agreement.

Agreement No.: 011870-002.

Title: Indian Subcontinent Discussion Agreement.

Parties: Evergreen Marine Corp. (Taiwan) Ltd.; Hapag-Lloyd AG; CMA CGM S.A.; Zim Integrated Shipping Services, Ltd.; Shipping Corporation of India; Emirates Shipping Line FZE; MacAndrews & Company Limited; and Nippon Yusen Kaisha.

Filing Party: David F. Smith, Esq.; Sher & Blackwell; 1850 M Street, NW.; Suite 900; Washington, DC 20036.

Synopsis: The amendment adds CMA CGM, S.A.; Zim Integrated Shipping Services, Ltd.; Shipping Corporation of India; Emirates Shipping Line FZE; and MacAndrews & Company Limited as parties to the agreement and updates the corporate name of Hapag-Lloyd.

Agreement No.: 011875-002.

Title: Zim/Hapag-Lloyd USEC Slot Charter Agreement.

Parties: Zim Integrated Shipping Services, Ltd. and Hapag-Lloyd AG.

Filing Party: Wayne R. Rohde, Esq.; Sher & Blackwell; 1850 M Street, NW.; Suite 900; Washington, DC 20036.

Synopsis: The amendment reflects Hapag-Lloyd's new corporate name.

Agreement No.: 011969.

Title: Zim/Italia Marittima Agreement.

Parties: Zim Integrated Shipping Services, Ltd. and Italia Marittima S.p.A.

Filing Party: Wayne R. Rohde, Esq.; Sher & Blackwell LLP; 1850 M Street, NW.; Suite 900; Washington, DC 20036.

Synopsis: The agreement authorizes the parties to share vessel space in the trade between U.S. Atlantic ports and ports in North Europe.

By order of the Federal Maritime Commission.
Dated: July 28, 2006.
Bryant L. VanBrakle,
Secretary.

[FR Doc. E6-12460 Filed 8-1-06; 8:45 am]

BILLING CODE 6730-01-P